DEPARTMENT OF HEALTH AND HUMAN SERVICES

Centers for Disease Control and Prevention

[30Day-23-0910]

Agency Forms Undergoing Paperwork Reduction Act Review

In accordance with the Paperwork Reduction Act of 1995, the Centers for Disease Control and Prevention (CDC) has submitted the information collection request titled “Message Testing for Tobacco Communication Activities (MTTCA)” to the Office of Management and Budget (OMB) for review and approval. CDC previously published a “Proposed Data Collection Submitted for Public Comment and Recommendations” notice on January 23, 2023 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street, NW, Washington, DC 20503 or by fax to (202) 395-5806. Provide written comments within 30 days of notice publication.

Proposed Project

Message Testing for Tobacco Communication Activities (MTTCA) (OMB Control No. 0920-0910, Exp. 01/31/2024)—Revision—National Center for Chronic Disease Prevention and Health Promotion (NCCDPHP), Centers for Disease Control and Prevention (CDC).

Background and Brief Description

Since 2012, OMB approval of a Generic Clearance of Message Testing for Tobacco Communication Activities (MTTCA, OMB Control No. 0920-0910), has been continuously maintained. CDC's authority to collect information for public health purposes is provided by the Public Health Service Act (41 U.S.C. 241) section 301. CDC has employed the MTTCA clearance to collect information about the attitudes and perceptions of adults who smoke and adults who do not smoke, and to pretest draft messages and materials for clarity, salience, appeal, and persuasiveness. The MTTCA clearance has been used to obtain OMB approval for a variety of message testing activities, with particular emphasis on communications supporting CDC's National Tobacco Education Campaign (NTEC) called the Tips from Former Smokers® campaign. This national campaign is designed to increase public awareness of the health consequences of tobacco use and exposure to secondhand smoke. The MTTCA clearance has also supported formative research relating to the development of health messages for a campaign to encourage educators to speak with middle and high school students about the risks of e-cigarette use and empower them to avoid or quit e-cigarettes.

Information collection modes under the MTTCA clearance that are supported include in-depth interviews, in-person and online focus groups, and online surveys. Each project approved under the MTTCA framework is outlined in a project-specific Information Collection Request that describes its purpose and methodology. Messages developed from MTTCA data collection have been disseminated via multiple media channels including television, radio, print, out-of-home, and digital formats.

CDC requests OMB approval to extend the MTTCA clearance, with changes, for three years. Requested changes are to increase the number of respondents and burden hours and remove the upper age limit previously 54 years of age, to include all adults aged 18 years and older. These changes are needed to support CDC's planned information collections and to accommodate additional needs that CDC may identify during the next three years. No modification is requested for information collection activities, methodology, or populations of interest from the existing Generic Clearance. The MTTCA Generic Clearance may be used to facilitate the development of tobacco-related health communications of interest for CDC's collaborative efforts with other federal partners including, but not limited to, the Food and Drug Administration's Center for Tobacco Products. The MTTCA clearance does not replace the need for additional generic clearance mechanisms of HHS and other federal partners that may need to test tobacco messages related to their campaigns and initiatives.

CDC is requesting increases to accommodate planned message testing needs for the NTEC, the campaign to encourage educators to speak with middle and high school students about the risks of e-cigarettes use, as well as ad hoc testing activities that may involve other CDC/ATSDR programs. CDC will continue to use the MTTCA clearance to develop and test messages and materials using data collection methodologies including online surveys, in-person or online focus groups, in-depth interviews, etc. Electronic data collection methods will be employed where possible to minimize COVID-19 and/or other exposure risk. Any in-person data collection will be conducted consistent with current guidance for mitigating the risk of transmitting COVID-19 and/or other exposures. Participation is voluntary and there are no costs to respondents, other than their time. The total estimated annualized burden hours are 20,039.

Estimated Annualized Burden Hours
Type of respondents | Form name | Number of respondents | Number of responses per respondent | Average burden per response (in hours)
General Public and Special Populations | Screening | 74,386 | 1 | 2/60
| In-Depth Interviews (In Person) | 25 | 1 | 1
| Focus Groups (In Person) | 628 | 1 | 90/60
| Surveys (Online, Short) | 71,000 | 1 | 20/60 13/60
| Surveys (Online, Medium) | 2,733 | 1 | 25/60

Jeffrey M. Zirger,
Lead, Information Collection Review Office, Office of Public Health Ethics and Regulations, Office of Science, Centers for Disease Control and Prevention.

[FR Doc. 2023-15545 Filed 7-20-23; 8:45 am]

BILLING CODE 4163-18-P